DEPARTMENT OF COMMERCE

International Trade Administration

[Application No. 14-2A004]

Export Trade Certificate of Review

ACTION: Notice of issuance of an amended export trade certificate of review.

SUMMARY: The Secretary of Commerce, through the Office of Trade and Economic Analysis (“OTEA”), issued an amended Export Trade Certificate of Review to the DFA of California on February 22, 2016.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2016).

OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

CPEC's Export Trade Certificate of Review has been amended to:

1. Add as new Members with respect to the covered products listed below:

a. Walnuts: Chico Nut Company; Omega Walnut, Inc.; O-G Nut Company; California Walnut Company, Inc.; and Morada Nut Company, LP.

2. Change the name of existing Member Linden Nut Company to Pearl Crop, Inc.

DFA's complete Membership covered by the amended Export Trade Certificate of Review is listed below:

1. Alpine Pacific Nut Company, Hughson, CA

2. Andersen & Sons Shelling, Vina, CA

3. Avanti Nut Company, Inc., Stockton, CA

4. Berberian Nut Company, LLC, Chico, CA

5. Carriere Family Farms, Inc., Glenn, CA

6. California Almond Packers and Exporters (CAPEX), Corning CA

7. California Walnut Company, Inc., Los Molinos, CA

8. Chico Nut Company, Chico, CA

9. Continente Nut LLC, Oakley, CA

10. C. R. Crain & Sons, Inc., Los Molinos, CA

11. Crain Walnut Shelling, Inc., Los Molinos, CA

12. Crisp California Walnuts, Stratford, CA

13. Diamond Foods, Inc., Stockton, CA

14. Empire Nut Company, Colusa, CA

15. Fig Garden Packing, Inc., Fresno, CA

16. Gold River Orchards, Inc., Escalon, CA

17. Grower Direct Nut Company, Hughson, CA

18. GSF Nut Company, Orosi, CA

19. Guerra Nut Shelling Company, Hollister, CA

20. Hill View Packing Company Inc., Gustine, CA

21. Mariani Nut Company, Winters, CA

22. Mariani Packing Company, Inc., Vacaville, CA

23. Mid Valley Nut Company Inc., Hughson, CA

24. Morada Nut Company, LP, Stockton, CA

25. National Raisin Company, Fowler, CA

26. O-G Nut Company, Stockton, CA

27. Omega Walnut, Inc., Orland, CA

28. Pearl Crop, Inc., Stockton, CA

29. Poindexter Nut Company, Selma, CA

30. Prima N oce Packing, Linden, CA

31. RPC Packing Inc., Porterville, CA

32. Sacramento Packing, Inc., Yuba City, CA

33. Sacramento Valley Walnut Growers, Inc., Yuba City, CA

34. San Joaquin Figs, Inc., Fresno, CA

35. Shoei Foods USA, Inc., Olivehurst, CA

36. Stapleton-Spence Packing, Gridley, CA

37. Sun-Maid Growers of California, Kingsburg, CA

38. Sunsweet Growers Inc., Yuba City, CA

39. Taylor Brothers Farms, Inc., Yuba City, CA

40. T.M. Duche Nut Company, Inc., Orland, CA

41. Wilbur Packing Company, Inc., Live Oak, CA

42. Valley Fig Growers, Fresno, CA

Dated: February 24, 2016.
Joseph E. Flynn,
Director, Office of Trade and Economic Analysis.

[FR Doc. 2016-04442 Filed 2-29-16; 8:45 am]

BILLING CODE 3510-DR-P